DEPARTMENT OF ENERGY

Federal Energy Regulatory Commission

Combined Notice of Filings #1

Take notice that the Commission received the following electric rate filings:

Docket Numbers: ER19-1506-001.

Applicants: Minonk Wind, LLC.

Description: Report Filing: Refund Report (ER20-1506-) to be effective N/A.

Filed Date: 8/19/20.

Accession Number: 20200819-5028.

Comments Due: 5 p.m. ET 9/9/20.

Docket Numbers: ER20-2196-001.

Applicants: Southwest Power Pool, Inc.

Description: Tariff Amendment: 3690 GridLiance High Plains/Evergy KS South Int Agr- Amended to be effective 9/1/2020.

Filed Date: 8/19/20.

Accession Number: 20200819-5100.

Comments Due: 5 p.m. ET 9/9/20.

Docket Numbers: ER20-2201-000.

Applicants: GridLiance High Plains LLC.

Description: Supplement to June 26, 2020 GridLiance High Plains LLC tariff filing (Limited Clarification Comments).

Filed Date: 8/18/20.

Accession Number: 20200818-5166.

Comments Due: 5 p.m. ET 8/25/20.

Docket Numbers: ER20-2202-001.

Applicants: Cassadaga Wind LLC.

Description: Tariff Amendment: Response to Commission Staff Request Regarding Application for Market-Based Rate to be effective 8/26/2020.

Filed Date: 8/19/20.

Accession Number: 20200819-5029.

Comments Due: 5 p.m. ET 9/9/20.

Docket Numbers: ER20-2691-000.

Applicants: Public Service Company of New Mexico.

Description: § 205(d) Rate Filing: PIA between PNM, Pattern NM Wind, Red Cloud Wind, and Clines Corners Wind farm to be effective 10/18/2020.

Filed Date: 8/18/20.

Accession Number: 20200818-5155.

Comments Due: 5 p.m. ET 9/8/20.

Docket Numbers: ER20-2692-000.

Applicants: Southern California Edison Company.

Description: § 205(d) Rate Filing: Letter Agreement Coso Energy Storage Project SA No. 251 to be effective 8/20/2020.

Filed Date: 8/19/20.

Accession Number: 20200819-5060.

Comments Due: 5 p.m. ET 9/9/20.

Docket Numbers: ER20-2693-000.

Applicants: Southern California Edison Company.

Description: § 205(d) Rate Filing: GIA and DSA Calportland Company—CPCC Wind Mojave SA Nos. 1110-1111 to be effective 10/19/2020.

Filed Date: 8/19/20.

Accession Number: 20200819-5065.

Comments Due: 5 p.m. ET 9/9/20.

Docket Numbers: ER20-2694-000.

Applicants: Icon Energy LLC.

Description: Baseline eTariff Filing: Baseline new to be effective 10/4/2020.

Filed Date: 8/19/20.

Accession Number: 20200819-5071.

Comments Due: 5 p.m. ET 9/9/20.

Docket Numbers: ER20-2695-000.

Applicants: Mohave County Wind Farm LLC.

Description: Baseline eTariff Filing: Mohave County Wind Farm LLC Application for MBR Authority to be effective 10/19/2020.

Filed Date: 8/19/20.

Accession Number: 20200819-5075.

Comments Due: 5 p.m. ET 9/9/20.

Docket Numbers: ER20-2696-000.

Applicants: AltaGas Pomona Energy Storage Inc.

Description: § 205(d) Rate Filing: Change in Status and Notice of Name Change to VESI Pomona Energy Storage, Inc. to be effective 8/20/2020.

Filed Date: 8/19/20.

Accession Number: 20200819-5092.

Comments Due: 5 p.m. ET 9/9/20.

Docket Numbers: ER20-2697-000.

Applicants: California Independent System Operator Corporation.

Description: § 205(d) Rate Filing: 2020-08-19 Certificate of Concurrence—LGIA among PG&E and CAISO to be effective 10/7/2020.

Filed Date: 8/19/20.

Accession Number: 20200819-5099.

Comments Due: 5 p.m. ET 9/9/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2020.
Nathaniel J. Davis, Sr.,
Deputy Secretary.

[FR Doc. 2020-18606 Filed 8-24-20; 8:45 am]

BILLING CODE 6717-01-P